DEPARTMENT OF THE INTERIOR

Fish and Wildlife Service

Endangered and Threatened Wildlife and Plants; Initiation of 5-Year Reviews of the Mariana Fruit Bat (Pteropus mariannus mariannus), etc.; Correction

AGENCY: Fish and Wildlife Service, Interior.

ACTION: Notice of review; correction.

SUMMARY: The U.S. Fish and Wildlife Service published a Notice of Review in the Federal Register on July 6, 2005, concerning initiation of 5-year reviews for 33 species in Region 1. The document contained incorrect listing information and names for the Mariana crow (Corvus kubaryi) and the Mariana fruit bat (Pteropus mariannus mariannus).

DATES: To allow us adequate time to conduct these reviews, we must receive your information no later than September 6, 2005. However, we will continue to accept new information about any listed species at any time.

FOR FURTHER INFORMATION CONTACT: Contact Gina Shultz, U.S. Fish and Wildlife Service, Pacific Islands Fish and Wildlife Office, at (808) 792-9400.

Corrections

In the Federal Register on July 6, 2005, in FR Doc 05-13219, on page 38972, in the first column, subject heading, line 5, the scientific name for the Mariana crow should read: (Corvus kubaryi).

In Table 1, on page 38973, the first entry of the listing information should read: Mariana fruit bat (=fanihi, Mariana flying fox), Pteropus mariannus mariannus, Threatened, Western Pacific Ocean—U.S.A. (GU, MP), 70 FR 1190 (06-JAN-05).

In Table 1, on page 38973, instead of Hawaiian crow, the second entry of the listing information should read: Mariana crow, Corvus kubaryi, Endangered, Western Pacific Ocean—U.S.A. (GU, MP), 49 FR 33885 (27-AUG-84).

In addition, the accepted common names and scientific names for three of the Hawaiian bird species should be as follows: Kauai oo (=oo aa, honeyeater) (Moho braccatus); Molokai creeper (=kakawahie) (Paroreomyza flammea); and Molokai thrush (=olomao) (Myadestes lanaiensis rutha).

Dated: August 1, 2005.
David J. Wesley,
Acting Regional Director, Region 1, U.S. Fish and Wildlife Service.

[FR Doc. 05-16270 Filed 8-16-05; 8:45 am]

BILLING CODE 4310-55-P